DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: October 8, 2015.
Roy E. Wright,
Deputy Associate Administrator for Insurance and Mitigation, Department of Homeland Security, Federal Emergency Management Agency.

State and county | Location and case No. | Chief executive officer of community | Community map repository | Effective date of modification | Community No.
Idaho:
Ada FEMA Docket No.: B-1512) | City of Boise (14-10-2112P) | The Honorable David Bieter, Mayor, City of Boise, P. O. Box 500, Boise, ID 83701 | City of Boise, Planning and Development Services, City Hall, 150 North Capital Boulevard, Boise, ID 83701 | Aug. 3, 2015 | 160002
Illinois:
DuPage (FEMA Docket No.: B-1513) | City of Warrenville (15-05-1937P) | The Honorable David L. Brummel, Mayor, City of Warrenville, City Hall, 28W701 Stafford Place, Warrenville, IL 60555 | Warrenville City Hall, 3S258 Manning Avenue, Warrenville, IL 60555 | Aug. 14, 2015 | 170218
DuPage (FEMA Docket No.: B-1513) | Unincorporated areas of DuPage County (15-05-1937P) | Mr. Dan Cronin, County Board Chairman, DuPage County, Administration Building, 421 North County Farm Road, Wheaton, IL 60187 | DuPage County Department of Development and Environmental Concerns, 421 North County Farm Rd., 2nd Floor, Wheaton, IL 60187 | Aug. 14, 2015 | 170197
Kane FEMA Docket No.: B-1512) | City of Aurora (15-05-0787P) | The Honorable Thomas Weisner, Mayor, City of Aurora, 44 East Downer Place, Aurora, IL 60505 | City Hall, Engineering Department, 44 East Downer Place, Aurora, IL 60505 | Aug. 6, 2015 | 170320
Kane FEMA Docket No.: B-1512) | Unincorporated areas of Kane County (15-05-0787P) | The Honorable Christopher Lauzen, Kane County Chairman, Kane County Government Center, 719 South Batavia Avenue,, Building A, Geneva, IL 60134 | Kane Village Hall, Main Street, P. O. Box 167, Kane, IL 62054 | Aug. 6, 2015 | 170896
Indiana:
Allen (FEMA Docket No.: B-1513) | Unincorporated areas of Allen County (14-05-9162P) | The Honorable F. Nelson Peters, Allen County Commissioner, Citizens Square, 200 East Berry Street, Suite 410, Fort Wayne, IN 46802 | 1 East Main Street, Room 630, Fort Wayne, IN 46802 | Aug. 25, 2015 | 180302
Iowa:
Poweshiek FEMA Docket No.: (B-1506) | Unincorporated areas of Poweshiek County (15-07-0505P) | The Honorable Lamoyne Gaard, Chairman, Poweshiek County Board of Supervisors, 931 Summer Street, Grinnell, IA 50112 | P. O. Box 297, 4802 Barnes City Road, Montezuma, IA 50112 | Jul. 16, 2015 | 190902
Massachusetts:
Norfolk FEMA Docket No.: (B-1506) | City of Quincy (15-01-0275P) | The Honorable Thomas P. Koch, Mayor, City of Quincy, Quincy City Hall, 1305 Hancock Street, Quincy, MA 02169 | 1305 Hancock Street, Quincy, MA 02169 | Jul. 17, 2015 | 255219
Plymouth FEMA Docket No.: (B-1512) | Town of Hingham (15-01-0904P) | Ms. Irma Lauter, Chair, Board of Selectman, Town Hall, 210 Central Street, Hingham, MA 02043 | Town Hall, 210 Central Street, Hingham, MA 02043 | Aug. 14, 2015 | 250268
Michigan:
Macomb FEMA Docket No.: (B-1512) | Township of Washington (14-05-8670P) | Mr. Dan O'Leary, Township Supervisor, Township of Washington, 57900 Van Dyke Road, Washington, MI 48094 | 57900 Van Dyke Avenue, Washington, MI 48094 | Aug. 3, 2015 | 260447
Oakland FEMA Docket No.: (B-1518) | City of Novi (15-05-3406P) | The Honorable Bob Gatt, Mayor, City of Novi, Civic Center, 45175 West Ten Mile Road, Novi, MI 48375 | 45175 West Ten Mile Road, Novi, MI 48375 | Aug. 31, 2015 | 260175
Minnesota:
Clay (FEMA Docket No.: (B-1512) | City of Moorhead (15-05-0455P) | The Honorable Del Rae Williams, Mayor, City of Moorhead, Moorhead City Hall, 500 Center Avenue, Moorhead, MN 56561 | 500 Center Avenue, Moorhead, MN 56561 | Aug. 14, 2015 | 275244
Missouri:
Jefferson (FEMA Docket No.: (B-1512) | City of De Soto (15-07-0329P) | The Honorable Werner Stichling, Mayor, City of De Soto, 17 Boyd Street, De Soto, MO 63020 | 17 Boyd Street, De Soto, MO 63020 | Aug. 7, 2015 | 295263
Jefferson (FEMA Docket No.: (B-1512) | Unincorporated areas of Jefferson County (15-07-0329P) | The Honorable Ken Waller, Jefferson County Executive, Jefferson County Administration Center, 729 Maple Street, Suite G30, Hillsboro, MO 63050 | 300 Main Street, P. O. Box 100, Hillsboro, MO 63050 | Aug. 7, 2015 | 290808
Ohio:
Delaware FEMA Docket No.: (B-1513) | Unincorporated areas of Delaware County (15-05-1599P) | The Honorable Gary Merrell, President, Delaware County Board of Commissioners, 101 North Sandusky Street, Delaware, OH 43015 | 50 Channing Street, South Wing, Delaware, OH 43015 | Aug. 1, 2015 | 390146
Franklin FEMA Docket No.: (B-1513) | City of Columbus (15-05-1599P) | The Honorable Michael B. Coleman, Mayor, City of Columbus, 90 West Broad Street, 2nd Floor, Columbus, OH 43215 | 757 Carolyn Avenue, Columbus, OH 43224 | Aug. 1, 2015 | 390170
Franklin FEMA Docket No.: (B-1513) | City of Dublin (15-05-1599P) | The Honorable Michael Keenan, Mayor, City of Dublin, 5200 Emerald Parkway, Dublin, OH 43017 | 5800 Shier-Rings Road, Dublin, OH 43017 | Aug. 1, 2015 | 390673
Franklin FEMA Docket No.: (B-1513) | Unincorporated areas of Franklin County (15-05-1599P) | The Honorable Marilyn Brown, President, Franklin County Board of Commissioners, 373 South High Street, 26th Floor, Columbus, OH 43215 | 280 East Broad Street, Columbus, OH 43215 | Aug. 1, 2015 | 390167
Virginia:
Fairfax FEMA Docket No.: (B-1512) | City of Fairfax (15-03-0545P) | The Honorable Scott Silverthorne, Mayor, City of Fairfax, Fairfax City Hall, 10455 Amstrong Street, Room 316, Fairfax, VA 22030 | 10455 Amstrong Street, Room 200, Fairfax, VA 22030 | Aug. 7, 2015 | 515524
Wisconsin:
Kenosha FEMA Docket No.: (B-1513) | City of Kenosha (14-05-8669P) | The Honorable Keith G. Bosman, Mayor, City of Kenosha, 625 52nd Street, Kenosha, WI 53140 | 625 52nd Street, Kenosha, WI 53140 | Aug. 21, 2015 | 550209
Kenosha FEMA Docket No.: (B-1513) | Village of Bristol (14-05-8669P) | Mr. Michael Farrell, President, Village of Bristol, 19801 83rd Street, Bristol, WI 53104 | 19801 83rd Street, Bristol, WI 53104 | Aug. 21, 2015 | 550595
Milwaukee FEMA Docket No.: (B-1513) | City of Greenfield (15-05-0082P) | The Honorable Michael J. Neitzke, Mayor, City of Greenfield, 7325 West Forest Home Avenue, Greenfield, WI 53220 | 7325 West Forest Home Avenue, Greenfield, WI 53220 | Aug. 21, 2015 | 550277

[FR Doc. 2015-27413 Filed 10-27-15; 8:45 am]

BILLING CODE 9110-12-P